DEPARTMENT OF STATE

[Public Notice 3769]

Bureau of Educational and Cultural Affairs; Request for Grant Proposals: NIS College and University Partnerships Program (NISCUPP)

SUMMARY: The Office of Global Educational Programs of the Bureau of Educational and Cultural Affairs in the Department of State announces an open competition for the NIS College and University Partnerships Program. Accredited, post-secondary educational institutions meeting the provisions described in IRS regulation 26 CFR 1.501(c) may apply to pursue institutional or departmental objectives in partnership with foreign counterpart institutions with support from the NIS College and University Partnerships Program. These objectives should support the overall goals of the Program: to support the transition of the New Independent States to democratic systems based on market economies, and to strengthen mutual understanding and cooperation between the United States and the New Independent States on subjects of enduring common interest to the participating countries and institutions. The means for achieving these objectives may include teaching, scholarship, and outreach to professionals and other members of the communities served by the participating institutions.

Program Overview

The NIS College and University Partnerships Program supports institutional linkages in higher education with partners from the New Independent States of the former Soviet Union with funding available through the FREEDOM Support Act. The Bureau also anticipates issuing a separate and additional Request for Grant Proposals for a partnership program for community colleges interested in cooperating with institutions in some or all of the New Independent States. Eligible community colleges may apply for grants under either or both of these two competitions.

The Bureau also supports institutional linkages in higher education with partners worldwide through the Educational Partnerships Program (formerly College and University Affiliations Program); the Educational Partnerships Program Request for Grant Proposals was announced separately and has a deadline of January 11, 2002. Applicants interested in the Bureau's Educational Partnerships Program should contact the Bureau's Humphrey Fellowships and Institutional Linkages Branch at (202)619-5289. Other RFGPs for educational partnerships may also be published in Fiscal Year 2002.

Program Objectives and Eligible Fields

This RFGP for the NIS College and University Partnerships Program does not prescribe specific project objectives, but establishes the parameters within which applicants are invited to propose projects. Institutional objectives should be consistent with the program's goals of supporting the transition of the New Independent States to democratic systems based on market economies and of equipping the participating institutions with a stronger ability to address, through teaching, research, or outreach, critical issues in the fields eligible in FY 2002:

The social, political, and economic sciences;

Business, accounting and trade;

Journalism and media studies;

Law;

Public administration and public policy analysis; and education, continuing education, and educational administration.

Institutional Objectives for Applicants

While the benefits of the project to each of the participating institutions may differ significantly in nature and scope based on their respective needs and resource bases, proposals should outline well-reasoned strategies that are designed to meet specific objectives for each participating U.S. and foreign department or institution as a whole.

For example, proposals may outline the parameters and possible content of new courses, new research or teaching specializations or methodologies, new or revised curricula, new programs for educational outreach, or other changes specifically anticipated as a result of the project. Proposals to pursue a limited number of related thematic objectives at each institution are preferred to proposals addressing a large number of unrelated objectives. Proposals that do not benefit all institutional partners are not eligible for funding from this Program. Proposals should focus clearly on strategies to promote curriculum, faculty, and staff development, as well as administrative reform, at the NIS partner institution(s) in one or more of the eligible disciplines. Projects may result in the development of a new academic program or the restructuring of an existing program, and should equip institutions of higher education to contribute to the transitions in the New Independent States to market economies and open democratic systems. Plans to enable participants to extend the benefits of the project to larger audiences through outreach to government, NGO, and business representatives are especially encouraged.

In addition to demonstrating how each participating institution can assist its partner(s) to meet institutional goals, proposals should also explain how this cooperation will enable each institution to address its own needs. Accordingly, applicants are encouraged to describe the needs and deficiencies as well as the capabilities and strengths of each participating department and institution, and how each institution will contribute to and benefit from the achievement of project objectives. Proposals that realistically assess institutional capacities will be better able to outline compelling objectives that address institutional needs and justify a request for support. To be competitive, proposals should demonstrate that the participating institutions understand one another and are committed to mutual support and cooperation in project implementation.

If the proposed partnership would occur within the context of a previous or ongoing project, the proposal should explain how the request for Bureau funding would build upon the pre-existing relationship or complement previous and concurrent projects. Previous projects should be described, with details about the amounts and sources of support and the results of previous cooperative efforts.

Institutions receiving partnership grant awards will be expected to submit periodic reports on the results of program activities. Proposals should outline and budget for a methodology for project evaluation. The evaluation plan should include an assessment of the current status of each participating department's and institution's needs at the time of program inception with specific reference to project objectives; formative evaluation to allow for mid-course revisions in the implementation strategy; and, at the conclusion of the project, summative evaluation of the degree to which the project's objectives have been achieved together with observations about the project's continuing potential to influence the participating institutions and their surrounding communities or societies. The final evaluation should also include recommendations about how to build upon project achievements. Evaluative observations by external consultants with appropriate subject and regional expertise are especially encouraged.

Budget Guidelines

Applicants must submit a comprehensive budget for the entire program. There must be a summary budget as well as breakdowns reflecting both administrative and program budgets. Applicants may provide separate sub-budgets for each program component, phase, location, or activity to provide clarification.

The commitment of all partner institutions to the proposed project should be reflected in the cost-sharing which they offer in the context of their respective institutional capacities. Although the contributions offered by U.S. and foreign institutions with relatively few resources may be less than those offered by applicants with greater resources, all participating institutions should identify appropriate cost-sharing. These costs may include estimated in-kind contributions. Consistent with the review criteria listed elsewhere in this RFGP and with specific reference to cost-sharing and institutional commitment to cooperation, proposed cost-sharing will be considered an important indicator of each participating institution's interest in the project and potential to benefit from it.

A U.S. college or university must submit the proposal and must be prepared to serve as grant recipient with responsibility for project coordination. Proposals must include letters of commitment from all institutional partners. Each letter must be signed by an official who is authorized to commit institutional resources to the project.

The Bureau's support may be used to assist with the costs of the exchange visits as well as the costs (up to a maximum of 25 percent of the total grant) of the administration of the project at any partner institution. However, governmental institutions except universities may not charge administrative costs to the grant. Administrative costs include administrative salaries and direct administrative costs such as rent, telephones, and postage. Indirect costs are not eligible for Bureau support under this competition. Although each grant will be awarded to a single U.S. institutional partner, adequate provision in the proposal for the administrative costs of the project at all non-governmental partner institutions, including the foreign partner(s), is encouraged. More information on partner institution eligibility in this competition is found in this RFGP under the headings “U.S. Partner and Participant Eligibility” and “Foreign Partner and Participant Eligibility.”

Salary support for administrative activity may be included within the 25 percent maximum. Fees for translation services and for outside consultants reporting on the status of project objectives are allowable as program expenses.

The proposal may include a request for funding to reinforce the activities of exchange participants through the establishment and maintenance of Internet and/or electronic mail facilities as well as through interactive technology or non-technology-based distance-learning programs. However, the establishment and maintenance of these facilities at governmental organizations in the U.S. or at foreign governmental organizations other than universities is not eligible for funding. Projects focusing primarily on technology or physical infrastructure development are not encouraged, and the amount that may be requested for educational and technical materials should not exceed 25 percent of the Bureau's funding for the project. Proposals that include Internet, electronic mail, and other interactive technologies in countries where these technologies are not easily maintained or financed should discuss how the foreign partner institution will cover their costs after the project ends. Applicants may propose other project activities not specifically mentioned in this solicitation if the activities reinforce the impact of the project.

The maximum award in the FY 2002 competition will be $300,000. The program awards grants for approximately three years. Awards may be extended on a no-cost basis beyond the initial grant period by mutual agreement if progress toward project goals is satisfactory. Requests for amounts smaller than the maximum are eligible. Budgets and budget notes should carefully justify the amounts requested. Grants awarded to organizations with less than four years of experience in conducting international exchange programs will be limited to $60,000.

Grants are subject to the availability of funds for FY 2002. The amount of funding available for proposals to the NIS College and University Partnerships Program in FY 2002 has not yet been determined. In FY 2001, 77 proposals were received under this competition. Of this number, 18 proposals are anticipated to be funded.

U.S. Institution and Participant Eligibility

The lead institution and grant recipient in the project must be an accredited U.S. college or university.

Applications from community colleges, minority-serving institutions, undergraduate liberal arts colleges, comprehensive universities, research universities, and combinations of these types of institutions are eligible. The lead U.S. organization in a consortium or other combination of cooperating institutions is responsible for submitting the application. Each application must document the lead organization's authority to represent all U.S. cooperating partners. Secondary U.S. partners may include governmental or non-governmental organizations as well as non-profit service and professional organizations.

With the exception of translators and outside consultants reporting on the status of project objectives, participation is limited to teachers, advanced graduate students, staff, and administrators from the participating U.S. institution(s). All participants who are funded by the Bureau under the program budget and represent the U.S. institution must be U.S. citizens. Advanced graduate students at the U.S. institution(s) are eligible for support from the project only as visiting instructors or researchers at a foreign partner institution.

Foreign Institution and Participant Eligibility

In other countries, participation as a primary partner is open to recognized degree granting institutions of post-secondary education. Secondary partners may include independent research institutes, relevant governmental organizations, and private non-profit organizations with project-related educational objectives. Except for translators and outside consultants reporting on the status of project objectives, participation is limited to teachers, administrators, researchers, or advanced students from the participating foreign institution(s). Any advanced student participant must either have teaching responsibilities or be preparing for such responsibilities. Foreign participants must be citizens, nationals, or permanent residents of the country of the foreign partner, and must be both qualified to receive U.S. J-1 visas and willing to travel to the U.S. under the provisions of a J-1 visa during the exchange visits funded by this Program. If participants are not identified in the proposal, the proposal narrative should outline the procedure through which individuals will be selected to participate in exchange activities. The U.S. partner should participate actively in the selection of foreign participants whether they are identified in the proposal or selected during the course of project implementation. All participants should be selected because of their demonstrable qualifications to contribute to overall project goals.

Foreign Country and Location Eligibility

Foreign partners from the following countries are eligible:

Armenia;

Azerbaijan;

Belarus—potential applicants for partnerships with institutions in Belarus are encouraged to contact the program office;

Georgia;

Kazakhstan—partnerships that include a partner in Almaty or Astana as well as a partner in another region of Kazakhstan are encouraged;

Kyrgyzstan;

Moldova;

Russia—proposals for partnerships with institutions located in Moscow or St. Petersburg should clearly indicate how those partnerships will have an impact on other regions. Proposals which designate a partner institution in the Russian Far East are encouraged.

Tajikistan—in consideration of the State Department Warning advising U.S. citizens to defer travel to Tajikistan, proposals should not include travel to Tajikistan by U.S. participants;

Ukraine—proposals which designate partner institutions outside Kiev are encouraged; Uzbekistan.

Partnerships including a secondary foreign partner from a non-NIS country are eligible; however, with the exception noted below under the heading “Central European Partners,” the Bureau will not cover overseas non-NIS partner institution costs.

Central European Partners

The Bureau encourages proposals which build upon established collaboration between U.S. institutions and their partners in Central and Eastern Europe in order to support faculty and curriculum development in the NIS and to promote regional cooperation. Funds may be budgeted for the exchange of faculty between NIS institutions and institutions of higher learning in Central and Eastern Europe (applicants planning to submit proposals for trilateral partnerships with a partner from Central and Eastern Europe are encouraged to contact the program office).

Ineligibility

A proposal may be deemed technically ineligible if:

(1) It does not fully adhere to the guidelines established in this document and in the Solicitation Package;

(2) It is not received by the deadline;

(3) It is not submitted by the U.S. partner;

(4) One of the partner institutions is ineligible;

(5) The foreign country or geographic location is ineligible;

(6) The amount requested from the Bureau exceeds $300,000.

Grant-Making Authority

Overall grant-making authority for this program is contained in the Mutual Educational and Cultural Exchange Act of 1961, Public Law 87-256, as amended, also known as the Fulbright-Hays Act. The purpose of the Act is “to enable the Government of the United States to increase mutual understanding between the people of the United States and the people of other countries * * * ; to strengthen the ties which unite us with other nations by demonstrating the educational and cultural interests, developments, and achievements of the people of the United States and other nations * * * and thus to assist in the development of friendly, sympathetic and peaceful relations between the United States and the other countries of the world.” The funding authority for the program cited above is provided through the Freedom for Russia and Emerging Eurasian Democracies and Open Markets Support Act of 1992 (Freedom Support Act).

Projects must conform with the Bureau's requirements and guidelines outlined in the solicitation package for this RFGP. The Project Objectives, Goals, and Implementation (hereafter, POGI) and the Proposal Submission Instructions (hereafter, PSI), which contain additional guidelines, are included in the Solicitation Package. Proposals that do not follow RFGP requirements and the guidelines appearing in the POGI and PSI may be excluded from consideration due to technical ineligibility.

Announcement Title and Number

All communications with the Bureau concerning this announcement should refer to the NIS College and University Partnerships Program and reference number ECA/A/S/U-02-07.

Deadline for Proposals

All copies must be received at the Bureau of Educational and Cultural Affairs by 5 p.m. Washington, DC time on Friday, January 18, 2002. Faxed documents will not be accepted (although faxed letters of commitment from non-U.S. institutional partners may be submitted as part of the original proposal), nor will documents postmarked on Friday, January 18, 2002 but received on a later date.

Approximate Grant Duration

Grants should begin on or about September 1, 2002 and last approximately three years. Please note that this date represents the approximate date that successful applicants will be informed. The program office understands that due to the short notice, it may not be feasible to schedule activities beyond brief planning visits during the first semester.

For Further Information

To request a solicitation package, contact the Humphrey Fellowships and Institutional Linkages Branch (NIS College and University Partnerships Program); Office of Global Educational Programs; Bureau of Educational and Cultural Affairs; ECA/A/S/U, Room 349; U.S. Department of State; SA-44, 301 Fourth Street, SW.; Washington, DC 20547; phone: (202) 619-5289, fax: (202) 401-1433. The solicitation package includes more detailed award criteria, all application forms, and guidelines for preparing proposals, including specific criteria for preparation of the proposal budget. Applicants desiring more information may contact one of the following NIS College and University Partnerships regional program officers: Michelle Johnson (telephone: (202) 205-8434 or 619-4097, e-mail: johnsonmi@pd.state.gov) on all inquiries and correspondence regarding partnerships with institutions in Russia; Jonathan Cebra (telephone: (202) 205-8379 or 619-4126, e-mail: jcebra@pd.state.gov) on all inquiries and correspondence regarding partnerships with institutions in Ukraine, Belarus, and Moldova; Alanna Bailey (telephone: (202) 205-8266 or 619-6492, e-mail: abailey@pd.state.gov) on all inquiries and correspondence regarding partnerships with institutions in any other eligible country (in the Central Asia or Caucasus regions).

To Download a Solicitation Package Via Internet

The entire Solicitation Package, consisting of the RFGP, POGI, and PSI, may be downloaded from the Bureau's website at: http://exchanges.state.gov/education/rfgps. Please read all information before downloading.

Prospective applicants should read the complete Request for Grant Proposals as published in the Federal Register and available on the Bureau's website before addressing inquiries to the NIS College and University Partnerships Program staff or submitting their proposals. Once the RFGP deadline has passed, Department staff may not discuss this competition in any way with applicants until the Bureau proposal review process has been completed.

Submissions

Applicants must follow all instructions given in the Solicitation Package. The original and 10 copies of the complete application should be sent by the project's lead U.S. college or university to:

U.S. Department of State

SA-44

Bureau of Educational and Cultural Affairs

Ref: ECA/A/S/U-02-07

Program Management, ECA/EX/PM, Room 534

301 4th Street, SW

Washington, DC 20547

Applicants must also submit the “Proposal Title Sheet,”

“Executive Summary,” “Proposal Narrative” and “Calendar of Activities” sections of the proposal as e-mail attachments in Microsoft Word (preferred) or as ASCII text files to the following e-mail address: partnerships@pd.state.gov. In the e-mail message subject line, include the following: ECA/A/S/U-02-07 and the country or countries of the foreign partner(s) together with the names of the U.S. and foreign partner institutions. To reduce the time needed to obtain advisory comments from the Public Affairs Sections of U.S. Embassies overseas the Bureau will transmit these files electronically to these offices.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support of Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals may be deemed ineligible if they do not fully adhere to the guidelines stated herein and in the Solicitation Package. All eligible proposals will be evaluated by independent external reviewers. These reviewers, who will be professional, scholarly, or educational experts with appropriate regional and thematic knowledge, will provide recommendations and assessments for consideration by the Bureau. The Bureau will consider for funding only those proposals which are recommended for funding by the independent external reviewers.

Proposals may also be reviewed by the Office of the Legal Advisor or by other offices of the U.S. Department of State. In addition, U.S. Embassy officers may provide advisory comment. Funding decisions will be made at the discretion of the Department of State's Acting Assistant Secretary for Educational and Cultural Affairs. Final technical authority for assistance awards (grants or cooperative agreements) will reside with the Bureau's grants officer.

Review Criteria

All reviewers will use the criteria below to reach funding recommendations and decisions. Technically eligible applications will be reviewed competitively according to these criteria, which are not rank-ordered or weighted.

(1) Broad and Enduring Significance of Institutional Objectives: Project objectives should have significant and ongoing results for the participating institutions and for their surrounding societies or communities by providing a deepened understanding of critical issues in one or more of the eligible fields. Project objectives should relate clearly to institutional and societal needs, including the transition of the New Independent States to democratic systems based on market economies.

(2) Creativity and Feasibility of Strategy to Achieve Project Objectives: Strategies to achieve project objectives should be feasible and realistic within the projected budget and timeframe. These strategies should utilize and reinforce exchange activities creatively to ensure an efficient use of program resources.

(3) Institutional Commitment to Cooperation: Proposals should demonstrate significant understanding by each institution of its own needs and capacities and of the needs and capacities of its proposed partner(s), together with a strong commitment by the partner institutions, during and after the period of grant activity, to cooperate with one another in the mutual pursuit of institutional objectives.

(4) Project Evaluation: Proposals should outline a methodology for determining the degree to which a project meets its objectives, both while the project is underway and at its conclusion. The final project evaluation should include an external component and should provide observations about the project's influence within the participating institutions as well as their surrounding communities or societies.

(5) Cost-effectiveness: Administrative and program costs should be reasonable and appropriate with cost-sharing provided by all participating institutions within the context of their respective capacities. We view cost-sharing as a reflection of institutional commitment to the project. Although indirect costs are eligible for inclusion as cost-sharing by the applicant, contributions should not be limited to indirect costs.

(6) Support of Diversity: Proposals should demonstrate substantive support of the Bureau's policy on diversity by explaining how issues of diversity are included in project objectives for all institutional partners. Issues resulting from differences of race, ethnicity, gender, religion, geography, socio-economic status, or physical challenge should be addressed during project implementation. In addition, project participants and administrators should reflect the diversity within the societies which they represent (see the section of this document on “Diversity, Freedom, and Democracy Guidelines”). Proposals should also discuss how the various institutional partners approach diversity issues in their respective communities or societies.

Notice

The terms and conditions published in this RFGP are binding and may not be modified by any State Department representative. Explanatory information provided by the Department of State that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: August 31, 2001.
Helena Kane Finn,
Acting Assistant Secretary for Educational and Cultural Affairs, Department of State.

[FR Doc. 01-22766 Filed 9-12-01; 8:45 am]

BILLING CODE 4710-05-P